DEPARTMENT OF THE INTERIOR

Bureau of Land Management

[ID-957-1420-BJ]

Idaho: Filing of Plats of Survey

AGENCY: Bureau of Land Management, Interior.

ACTION: Notice.

SUMMARY: The plats of the following described lands were officially filed in the Idaho State Office, Bureau of Land Management, Boise, Idaho, effective 9 a.m., on the dates specified:

The plat representing the dependent resurvey of portions of the east boundary and subdivisional lines, and the subdivision of section 25, the survey of a portion of the 2000 meanders of the left bank of the North Fork of the Payette River in section 25, and the survey of certain islands (designated as lots 13 and 15) in the North Fork of the Payette River in section 25, T. 14 N., R. 3 E., Boise Meridian, Idaho, was accepted July 6, 2001. The plat was prepared to meet certain administrative needs of the Bureau of Land Management.

The plat representing the dependent resurvey of portions of the north boundary and subdivisional lines, and the subdivision of section 2, T. 6 S., R. 9 E., Boise Meridian, Idaho, was accepted July 13, 2001. The plat was prepared to meet certain administrative needs of the Bureau of Land Management.

The plat representing the dependent resurvey of a portion of the subdivisional lines of T. 15 S., R. 23 E., Boise Meridian, Idaho, was accepted July 17, 2001. The plat was prepared to meet certain administrative needs of the Bureau of Land Management.

The plat representing the dependent resurvey of portions of the east and north boundaries, subdivisional lines, and of the 1910 meanders of the left bank of the Boise River, and the dependent resurvey of the subdivision of section 4 and of former lot 6 in section 4, and the subdivision of sections 3, 10, 11, 13, 14, 15, 23, 24, 25, the further subdivision of section 4, and the survey of the 2000 meanders of a portion of the left bank of the Diversion Dam Pool, T. 2 N., R. 3 E., Boise Meridian, Idaho, and the plat representing the dependent resurvey of a portion of the subdivisional lines, and the subdivision of section 19, and a metes-and-bounds survey in section 19, T. 2 N., R. 4 E., Boise Meridian, Idaho, were accepted on July 31, 2001. The plats were prepared to meet certain administrative needs of the Bureau of Land Management.

The plat representing the dependent resurvey of portions of the south boundary, the subdivisional lines, the subdivision of section 36, and the 1891 adjusted meanders of the right bank of the Clearwater River, and the additional subdivision of section 36, and the survey of lots 7, 8, 9 and 10 of section 36, T. 34 N., R. 3 E., Bosie Meridian, Idaho, was accepted on September 28, 2001. The plat was prepared to meet certain administrative needs of the Northern Idaho Agency, Bureau of Indian Affairs.

FOR FURTHER INFORMATION CONTACT: Duane Olsen, Chief, Cadastral Survey, Idaho State Office, Bureau of Land Management, 1387 South Vinnell Way, Boise, Idaho, 83709-1657, 208-373-3980.

Dated: September 28, 2001.
Harry K. Smith,
Acting Chief, Cadastral Surveyor of Idaho.

Editorial Note: This document was received in the Office of the Federal Register on June 20, 2002.

[FR Doc. 02-16003 Filed 6-24-02; 8:45 am]

BILLING CODE 4310-GG-P